ENVIRONMENTAL PROTECTION AGENCY

[FRL -7806-1]

Science Advisory Board Staff Office; Clean Air Scientific Advisory Committee (CASAC) Notification of Advisory Committee Meeting of the CASAC Particulate Matter Review Panel

AGENCY: Environmental Protection Agency (EPA).

ACTION: Notice.

SUMMARY: The Environmental Protection Agency (EPA) Science Advisory Board (SAB) Staff Office announces a public teleconference of the Clean Air Scientific Advisory Committee's (CASAC) Particulate Matter (PM) Review Panel to discuss follow-on matters related to its ongoing peer review of the EPA Air Quality Criteria Document for Particulate Matter (Fourth External Review Draft).

DATES: The teleconference meeting will be held September 20, 2004, from 11 a.m. to 3 p.m. (Eastern Time).

FOR FURTHER INFORMATION CONTACT: Any member of the public who wishes to obtain the teleconference call-in numbers and access codes; would like to submit written or brief oral comments (5 minutes or less); or wants further information concerning this meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Summary: The CASAC, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC PM Review Panel will comply with the provisions of FACA and all appropriate SAB Staff Office procedural policies.

The teleconference is a continuation of the PM Review Panel's peer review of the EPA Air Quality Criteria for Particulate Matter (Fourth External Review Draft). Specifically, this meeting will be held to discuss the revisions to Chapter 9 (Integrative Synthesis) of the Fourth External Review Draft of the Air Quality Criteria Document (AQCD) for PM. The report from the CASAC PM Review Panel's last meeting to review this draft document, held on July 20-21, 2004, will soon be posted on the SAB Web site at: http://www.epa.gov/sab.

Background: EPA is in the process of updating, and revising where appropriate, the AQCD for PM as issued in 1996. Section 109(d)(1) of the Clean Air Act (CAA) requires that EPA carry out a periodic review and revision, where appropriate, of the air quality criteria and the National Ambient Air Quality Standards (NAAQS) for “criteria” air pollutants such as PM. On June 30, 2003, the National Center for Environmental Assessment (NCEA), within EPA's Office of Research and Development, made available for public review and comment a Fourth External Review Draft of a revised document, EPA Air Quality Criteria for Particulate Matter. Under CAA sections 108 and 109, the purpose of the revised document is to provide an assessment of the latest scientific information on the effects of airborne PM on the public health and welfare, for use in EPA's current review of the NAAQS for PM. Detailed summary information on the history of the current draft AQCD for PM is contained in a previous Federal Register notice (68 FR 36985, June 20, 2003). The EPA Air Quality Criteria for Particulate Matter (Fourth External Review Draft), and the revised chapters of this draft document, can be viewed and downloaded from the NCEA Web site at: http://cfpub.epa.gov/ncea/cfm/partmatt.cfm. Any questions concerning the draft document should be directed to Dr. Robert Elias, NCEA-RTP, via telephone: (919) 541-1818; or e-mail at: elias.robert@epa.gov.

Availability of Additional Meeting Materials: A copy of the agenda for this teleconference meeting will be posted on the SAB Web site at: http://www.epa.gov/sab (under the “Agendas” subheading) in advance of the CASAC PM Review Panel teleconference. Other materials that may be available will also be posted on the SAB Web site during this time-frame.

Providing Oral or Written Comments at SAB Meetings: It is the policy of the SAB Staff Office to accept written public comments of any length and to accommodate oral public comments whenever possible. The SAB Staff Office expects that public statements presented at its meetings will not be repetitive of previously-submitted oral or written statements. Oral Comments: In general, each individual or group requesting an oral presentation at a meeting or teleconference will be limited to a total time of five minutes (unless otherwise indicated). Requests to provide oral comments must be in writing (preferably via e-mail) and received by Mr. Butterfield no later than noon Eastern Time five business days prior to the meeting in order to reserve time on the meeting agenda. Written Comments: The SAB Staff Office accepts written comments until the date of the meeting or teleconference (unless otherwise stated). Copies of both oral and written public comments should be provided to Mr. Butterfield (preferably via e-mail) at the address/contact information noted above, as follows: one hard copy with original signature, and one electronic copy via e-mail (acceptable file format: Adobe Acrobat PDF, WordPerfect, Word, or Rich Text files (in IBM-PC/Windows 95/98 format)). All comments should be received in the SAB Staff Office no later than noon Eastern Time five business days prior to the meeting or teleconference so that these comments may be made available to the CASAC PM Review Panel for their consideration.

Dated: August 13, 2004.
Vanessa T. Vu,
Director, EPA Science Advisory Board Staff Office.

[FR Doc. 04-19438 Filed 8-24-04; 8:45 am]

BILLING CODE 6560-50-P